DEPARTMENT OF TRANSPORTATION

Surface Transportation Board

[STB Docket No. AB-55 (Sub-No. 683X)]

CSX Transportation, Inc.—Abandonment Exemption—in Greenbrier County, WV

CSX Transportation, Inc. (CSXT) has filed a verified notice of exemption under 49 CFR 1152 Subpart F—Exempt Abandonments to abandon a 13.6-mile line of railroad on its Southern Region, Huntington Division—East, Rupert Subdivision extending from milepost CAH 7.2 at Rupert Junction to the end of the track at milepost CAH 20.8 at Clearco in Greenbrier County, WV. The station, Raders Run, at milepost CAH 11, FSAC 083117, OPSL 62455 is located on the line. The line traverses United States Postal Service Zip Code 25984.¹

¹ In CSX Transportation, Inc.—Abandonment Exemption—in Greenbrier County, WV, STB Docket No. AB-55 (Sub-No. 598X) (STB served Oct. 12, 2001), CSXT was authorized to abandon this line of railroad subject to certain imposed environmental conditions. By decisions served on October 10, 2002, April 9, 2003, October 9, 2003, and April 16, 2004, the due date for filing a notice of consummation was extended to October 9, 2004. However, CSXT did not exercise the abandonment authority within the given time frame, and therefore, the authority to abandon expired. On April 9, 2007, CSXT filed requests for the Board to reinstate the abandonment and seeking an extension of the deadline for filing its notice of consummation until June 1, 2007. By decision served on May 11, 2007, CXST's requests for reinstatement of the abandonment and an extension of time to file a notice of consummation were denied. In the May 2007 decision, CSXT was advised to file a new notice that should be in compliance with 49 CFR 1152 Subpart F and that it would require a new subnumber and a new filing fee.

CSXT has certified that: (1) No local traffic has moved over the line for at least 2 years; (2) any overhead traffic on the line can be rerouted; (3) no formal complaint filed by a user of rail service on the line (or by a state or local government entity acting on behalf of such user) regarding cessation of service over the line either is pending with the Surface Transportation Board or with any U.S. District Court or has been decided in favor of complainant within the 2-year period; and (4) the requirements of 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on July 26, 2007, unless stayed pending reconsideration. Petitions to stay that do not involve environmental issues,² formal expressions of intent to file an OFA under 49 CFR 1152.27(c)(2),³ and trail use/rail banking requests under 49 CFR 1152.29 must be filed by July 6, 2007. Petitions to reopen or requests for public use conditions under 49 CFR 1152.28 must be filed by July 16, 2007, with the Surface Transportation Board, 395 E Street, SW., Washington, DC 20423-0001.

² The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

³ Each OFA must be accompanied by the filing fee, which currently is set at $1,300. See 49 CFR 1002.2(f)(25).

A copy of any petition filed with the Board should be sent to CSXT's representative: Steven C. Armbust, Esq., CSX Transportation, Inc., 500 Water Street, Jacksonville, FL 32202.

If the verified notice contains false or misleading information, the exemption is void ab initio.

CSXT has filed environmental and historic reports which address the effects, if any, of the abandonment on the environment and historic resources. SEA will issue an environmental assessment (EA) by June 29, 2007. Interested persons may obtain a copy of the EA by writing to SEA (Room 1100, Surface Transportation Board, Washington, DC 20423-0001) or by calling SEA, at (202) 245-0305. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), CSXT shall file a notice of consummation with the Board to signify that it has exercised the authority granted and fully abandoned the line. If consummation has not been effected by CSXT's filing of a notice of consummation by June 26, 2008, and there are no legal or regulatory barriers to consummation, the authority to abandon will automatically expire.

Board decisions and notices are available on our Web site at http://www.stb.dot.gov.

Decided: June 15, 2007.
By the Board, David M. Konschnik, Director, Office of Proceedings.
Vernon A. Williams,
Secretary.

[FR Doc. E7-12214 Filed 6-25-07; 8:45 am]

BILLING CODE 4915-01-P